DEPARTMENT OF HEALTH AND HUMAN SERVICES

Administration for Children and Families

[CFDA NUMBER: 93.086]

Announcement of the Award of Two Single-Source Program Expansion Supplements to Grantees Under the Pathways to Responsible Fatherhood Grants

AGENCY: Office of Family Assistance, ACF, HHS.

ACTION: Announcement of the award of single-source program expansion supplements to Kanawha Institute for Social Research & Action (KISRA) in Dunbar, WV, and Connections to Success in Kansas City, MO, to support Pathways to Responsible Fatherhood activities that promote responsible fatherhood through the provision of subsidized employment, family reunification, and economic stability services designed to move individuals and families to self-sufficiency.

SUMMARY: The Administration for Children and Families (ACF), Office of Family Assistance (OFA), Division of State and Territory TANF Management (DSTTM) announces the award of single-source program expansion supplement grants of $131,666 each to Kanawha Institute for Social Research & Action (KISRA) in Dunbar, WV, and Connections to Success in Kansas City, MO.

Connections to Success and KISRA offer community-centered, comprehensive approaches to promoting responsible fatherhood, and activities designed to promote economic stability, subsidized employment, and supportive services. The primary purpose of the projects is to eliminate barriers for fathers to achieve social and economic self-sufficiency through subsidized employment, including individuals preparing to reenter their communities or those who have recently returned to their communities following incarceration. Both projects implement three legislatively specified activities: healthy marriage, responsible parenting, and economic stability.

Kanawha Institute for Social Research & Action (KISRA)

The Kanawha Institute for Social Research & Action, Inc. was established as a 501(c)(3) non-profit organization in 1993 to serve and empower West Virginians through an array of education, employment, economic empowerment and behavioral health services in six West Virginia Counties: Kanawha, Cabell, Raleigh, Mercer, Fayette and Wood, as well as at 14 correctional facilities in the state.

Supplemental funds will be used for KISRA's Growing Jobs Project of the West Virginia Pathways to Responsible Fatherhood Initiative (GJP). The GJP program will serve at least 40 fathers who meet the following criteria: (1) Present TANF recipients, former TANF recipients or whose children are receiving TANF; (2) 200% or below the federal poverty level; (3) previously incarcerated. GJP will be housed at KISRA's headquarters in Dunbar, Kanawha County.

GJP is a subsidized employment strategy that will create at least 20 jobs through the operation of an urban farm and commercial kitchen. Wage subsidies will support program participants with starting salaries for these jobs that range from $8 per hour to $15 per hour. The project responds to community needs and market trends, which demonstrate that organic foods is a growing industry (7.7% in 2010) with sustainable opportunity for employment and career growth. Increased employment will promote sustainable development that will revitalize the community and assist low-income individuals in attaining economic self-sufficiency.

Connections to Success

Connections to Success is a 501(c)(3) non-profit organization nationally recognized for its 13 years of outcomes-based work combating poverty in Kansas and Missouri. Connections to Success's Pathways to Responsible Fatherhood program currently implements its Successful STEPS (Services and Training to Empower Parents) program, which provides skill-based parenting and relationship education, and promotes economic stability to parents and/or couples who are currently receiving public assistance through the Kansas Department of Social and Rehabilitation Services.

Supplemental funds will be used to increase the funding available for subsidized employment to provide an additional 24 participants partial wage subsidization with private employers. Additionally, supplemental funds will be used to add one full-time job developer to focus on creating additional employer partners for subsidized employment opportunities; one additional part-time trainer to allow for simultaneous trainings to occur at different locations; and one additional part-time case manager to lower the ratio of participants to case managers. This will increase the level of assistance to each participant with the goal of improved performance outcomes.

In addition to the subsidized employment services, both organizations will include the provision of supportive services to program participants, including comprehensive case management to strengthen father, couple, and family relationships.

DATES: September 30, 2012—September 29, 2013.

FOR FURTHER INFORMATION CONTACT: Robin Y. McDonald, Division Director, Office of Family Assistance, 370 L'Enfant Promenade, SW., 5th Floor East, Washington, DC 20047. Telephone: (202) 401-5587 Email: robin.mcdonald@acf.hhs.gov.

SUPPLEMENTARY INFORMATION: The Pathways to Responsible Fatherhood Grants program (HHS-2011-ACF-OFA-FK-0194) funds programs that demonstrate the ability to develop and implement a comprehensive approach to promoting responsible fatherhood, including activities designed to promote economic stability, foster responsible parenting, and promote healthy marriage. Program designs that include case management, and support services that can facilitate program participation and improved effectiveness, were strongly encouraged. Finally, funding under this program also supports comprehensive and effective employment services, including subsidized employment.

Statutory Authority: The award is made under the authority of Claims Resettlement Act of 2010 (Pub. L. 111-291).

Susan Golonka,
Deputy Director, Office of Family Assistance, Administration for Children and Families.

[FR Doc. 2012-25561 Filed 10-16-12; 8:45 am]

BILLING CODE 4184-35-P